COMMODITY FUTURES TRADING COMMISSION

Renewal of the Agricultural Advisory Committee

AGENCY: Commodity Futures Trading Commission.

ACTION: Notice of Federal Advisory Committee Renewal.

SUMMARY: The Commodity Futures Trading Commission has determined to renew the charter of its Global Markets Advisory Committee.

FOR FURTHER INFORMATION CONTACT: Martin B. White, Committee Management Officer, at 202-418-5129, or Thuy Dinh, at 202-418-5128. Written comments should be submitted to David A. Stawick, Secretary, Commodity Futures Trading Commission, Three Lafayette Centre, 1155 21st Street, NW., Washington, DC 20581. Electronic comments may be submitted to the Commission's Committee Management Officer, Martin White at mwhite@cftc.gov until a Designated Federal Officer is appointed.

SUPPLEMENTARY INFORMATION: The Commodity Futures Trading Commission (“Commission”) has determined to renew its Agricultural Advisory Committee. The Commission has determined that renewing the advisory committee is in the public interest in connection with the duties imposed on the Commission by the Commodity Exchange Act, 7 U.S.C. 1-25, as amended. The Agricultural Advisory Committee has been renewed through January 31, 2012. Pursuant to section 14(a)(2) of the Federal Advisory Committee Act, the committee may again be renewed at that time.

The committee's objectives and scope of activities shall be to conduct public meetings and submit reports and recommendations to assist the Commission in assessing issues affecting agricultural producers, processors, lenders and others interested in or affected by the agricultural commodities markets. The Committee shall also facilitate communications between the Commission and the diverse agricultural and agriculture-related organizations which will be represented on the Committee.

The renewal charter of the committee is filed with the Commission; the Senate Committee on Agriculture, Nutrition and Forestry; the House Committee on Agriculture; the Library of Congress; and the General Services Administration's Committee Management Secretariat concurrently with the publication of the notice of renewal in the Federal Register. A copy of the renewal charter also will be posted on the Commission's Web site at http://www.cftc.gov.

Issued in Washington, DC, on April 14, 2011, by the Commission.
David A. Stawick,
Secretary of the Commission.

[FR Doc. 2011-9550 Filed 4-19-11; 8:45 am]

BILLING CODE P